DEPARTMENT OF ENERGY

10 CFR Part 431

[EERE-2019-BT-STD-0008]

Energy Conservation Program: Energy Conservation Standards for Small Electric Motors

AGENCY: Office of Energy Efficiency and Renewable Energy, Department of Energy.

ACTION: Request for information; reopening of public comment period.

SUMMARY: On April 9, 2019, the U.S. Department of Energy (DOE) published a request for information pertaining to the energy conservation standards for small electric motors. The notice provided an opportunity for submitting written comments, data, and information by May 24, 2019. This document reopens the comment period.

DATES: The comment period for the RFI, published on April 9, 2019 (84 FR 14027), is reopened. DOE will accept written comments, data, and information in response to the RFI no later than June 7, 2019.

ADDRESSES: Interested persons are encouraged to submit comments using the Federal eRulemaking Portal at http://www.regulations.gov. Follow the instructions for submitting comments. Alternatively, interested persons may submit comments, identified by docket number EERE-2019-BT-STD-0008, by any of the following methods:

1. Federal eRulemaking Portal: http://www.regulations.gov. Follow the instructions for submitting comments.

2. Email: SmallElecMotors2019STD0008@ee.doe.gov. Include the docket number EERE-2019-BT-STD-0008 in the subject line of the message.

3. Postal Mail: Appliance and Equipment Standards Program, U.S. Department of Energy, Building Technologies Office, Mailstop EE-5B, 1000 Independence Avenue SW, Washington, DC 20585-0121. Telephone: (202) 287-1445. If possible, please submit all items on a compact disc (“CD”), in which case it is not necessary to include printed copies.

4. Hand Delivery/Courier: Appliance and Equipment Standards Program, U.S. Department of Energy, Building Technologies Office, 950 L'Enfant Plaza, SW, 6th Floor, Washington, DC 20024. Telephone: (202) 287-1445. If possible, please submit all items on a CD, in which case it is not necessary to include printed copies.

No telefacsimilies (faxes) will be accepted.

Docket: The docket for this activity, which includes Federal Register notices, comments, and other supporting documents/materials, is available for review at http://www.regulations.gov. All documents in the docket are listed in the http://www.regulations.gov index. However, some documents listed in the index, such as those containing information that is exempt from public disclosure, may not be publicly available.

The docket web page can be found at https://www.regulations.gov/docket?D=EERE-2019-BT-STD-0008. The docket web page contains instructions on how to access all documents, including public comments, in the docket.

FOR FURTHER INFORMATION CONTACT:

Jeremy Dommu, U.S. Department of Energy, Office of Energy Efficiency and Renewable Energy, Building Technologies Office, EE-5B, 1000 Independence Avenue SW, Washington, DC 20585-0121. Telephone: (202) 586-9870. Email: ApplianceStandardsQuestions@ee.doe.gov.

Michael Kido, U.S. Department of Energy, Office of the General Counsel, GC-33, 1000 Independence Avenue SW, Washington, DC 20585-0121. Telephone: (202) 586-8145. Email: Michael.Kido@hq.doe.gov.

For further information on how to submit a comment, or review other public comments and the docket contact the Appliance and Equipment Standards Program staff at (202) 287-1445 or by email: ApplianceStandardsQuestions@ee.doe.gov.

SUPPLEMENTARY INFORMATION: DOE published a Request for Information (“RFI”) pertaining to the energy conservation standards for small electric motors on April 9, 2019. 84 FR 14027. The RFI initiated a data collection process to consider whether to amend DOE's energy conservation standards for small electric motors, and whether amending the standards for small electric motors would result in significant energy savings and be technologically feasible and economically justified. DOE requested written comment, data, and information pertaining to these standards by May 24, 2019.

On May 22, 2019, the National Electrical Manufacturers Association (“NEMA”), an interested party in the matter, requested a one-week extension of the public comment period for the RFI that DOE previously published in the Federal Register on April 9, 2019. (NEMA, EERE-2019-BT-STD-0008, No. 4) The comment period for the RFI closed on May 24, 2019.¹

¹ Available at https://www.regulations.gov/document?D=EERE-2019-BT-STD-0008-0004.

DOE has determined that a reopening of the comment period to allow additional time for interested parties to submit comments is appropriate. Therefore, DOE is reopening the comment period and will accept comments until June 7, 2019, to provide interested parties additional time to prepare and submit comments. Accordingly, DOE will consider any comments received by this date, to be timely submitted.

Signed in Washington, DC, on May 23, 2019.
Steven Chalk,
Acting Deputy Assistant Secretary for Energy Efficiency, Energy Efficiency and Renewable Energy.

[FR Doc. 2019-11390 Filed 5-30-19; 8:45 am]

BILLING CODE 6450-01-P